FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 012414-002.

Agreement Name: LGL/Glovis Space Charter Agreement.

Parties: Hyundai Glovis Co., Ltd. and Liberty Global Logistics LLC.

Filing Party: Wayne Rohde; Cozen O'Connor.

Synopsis: The amendment adds Qatar, Iraq and India to the scope of the Agreement. It also revises Article 5.1 to replace the ad hoc space chartering arrangement which had existed previously with a more defined reciprocal space chartering arrangement. The amendment also revises the duration and termination of the Agreement, and restates the Agreement.

Proposed Effective Date: 3/8/2019.

Location: https://www2.fmc.gov/FMC.Agreements.Web/Public/AgreementHistory/1879.

Agreement No.: 201288.

Agreement Name: Digital Container Shipping Association Agreement.

Parties: Maersk Line A/S; Hapag-Lloyd AG; CMA CGM S.A.; MSC Mediterranean Shipping Company S.A.; and Ocean Network Express Pte. Ltd.

Filing Party: Wayne Rohde; Cozen O'Connor.

Synopsis: The Agreement authorizes the parties to form a non-profit corporate entity through which they can discuss, exchange information and agree on the development, establishment, standardization and harmonization of terminology, guidelines and standards for information technology used in any aspect of the movement of containers or services ancillary thereto. The parties request expedited review.

Proposed Effective Date: 3/14/2019.

Location: https://www2.fmc.gov/FMC.Agreements.Web/Public/AgreementHistory/21328.

Agreement No.: 011290-042.

Agreement Name: International Vessel Operators Dangerous Goods Association Agreement.

Parties: Evergreen Line Joint Service Agreement; Hapag-Lloyd AG; Hyundai Merchant Marine Co., Ltd.; Independent Container Line, Ltd; Maersk Line A/S; Matson Navigation Company, Inc.; Ocean Network Express Pte. Ltd.; Orient Overseas Container Line Limited; Tampa Bay International Terminals, Inc.; The National Shipping Company of Saudi Arabia d/b/a Bahri; Tropical Shipping & Construction Co., Ltd.; Wallenius Wilhelmsen Ocean AS; Wan Hai Lines Ltd.; Yang Ming Marine Transport Corporation; APL C. Pte. Ltd.; Crowley Caribbean Services LLC; Crowley Latin America Services, LLC; COSCO Shipping Lines Co., Ltd.; Bermuda Container Line Ltd.; Seaboard Marine Ltd.; and the Klinge Corporation.

Filing Party: Wayne Rohde; Cozen O'Connor.

Synopsis: The amendment deletes Alianca Navegacao E Logistica Ltda; Atlantic Container Line AB; Hamburg Süd; Kawasaki Kisen Kaisha Ltd.; Mitsui O.S.K. Lines, Ltd.; and Nippon Yusen Kaisha Line as parties to the Agreement. It adds Ocean Network Express Pte. Ltd. as a party and adds Klinge Corporation and Tampa Bay International Terminals, Inc. as associate parties. The amendment also makes technical corrections to the names and/or addresses of various parties.

Proposed Effective Date: March 7, 2019.

Location: https://www2.fmc.gov/FMC.Agreements.Web/Public/AgreementHistory/1638.

Agreement No.: 012307-003.

Agreement Name: Maersk Line/APL Slot Exchange Agreement.

Parties: American President Lines, LLC; APL Co. Pte. Ltd.; and Maersk Line A/S.

Filing Party: Wayne Rohde; Cozen O'Connor.

Synopsis: The amendment revises the amount of space being chartered by Maersk and revises the name of one of the APL entities that is a party to the Agreement.

Proposed Effective Date: March 7, 2019.

Location: https://www2.fmc.gov/FMC.Agreements.Web/Public/AgreementHistory/176.

Dated: January 31, 2018.
JoAnne D. O' Bryant,
Program Analyst.

[FR Doc. 2019-01128 Filed 2-4-19; 8:45 am]

BILLING CODE 6731-AA-P